DEPARTMENT OF TRANSPORTATION

Federal Highway Administration

Notice of Final Federal Agency Action on Proposed Interchange in Georgia, Interstate 20 (I-20) at County Road (CR) 249/Old Mill Road, Morgan and Walton Counties, Georgia

AGENCY: Federal Highway Administration (FHWA), Department of Transportation (DOT).

ACTION: Notice of limitations on claims for judicial review of action by FHWA and other Federal agencies.

SUMMARY: This notice announces actions taken by FHWA and other Federal agencies that are final. This final agency action relates to a proposed new interchange project, the I-20 at Old Mill Road Interchange Project, along I-20 at Old Mill Road beginning approximately 0.38 mile south of I-20 on Old Mill Road and ending approximately 0.27 mile north of I-20 at a signalized intersection with a newly constructed frontage road. The length of the proposed project is approximately 0.73 mile. The I-20 at Old Mill Road Interchange Construction Project is located in Morgan and Walton Counties, Georgia. The FHWA's Finding of No Significant Impact (FONSI) provides details on the Selected Alternative for the proposed interchange. Those actions grant licenses, permits, and approvals for the project.

DATES: By this notice, FHWA is advising the public of the final agency actions subject to 23 U.S.C. 139(l)(1). A claim seeking judicial review of the Federal agency actions on the highway project will be barred unless the claim is filed on or before March 8, 2024. If the Federal law that authorizes judicial review of a claim provides a time period of less than 150 days for filing such claim, then that shorter time period still applies.

FOR FURTHER INFORMATION CONTACT: For FHWA: Ms. Sabrina David, Division Administrator, Georgia Division, Federal Highway Administration, 75 Ted Turner Drive, Suite 1000, Atlanta, Georgia 30303; telephone 404-562-3630; email: Sabrina.David@dot.gov. FHWA's normal business hours are 8 a.m. to 5 p.m. (eastern time) Monday through Friday. For Georgia Department of Transportation (GDOT): Mr. Russell McMurray, Commissioner, Georgia Department of Transportation, 600 West Peachtree Street, 22nd Floor, Atlanta, Georgia 30308; telephone (404) 631-1990; email: RMcMurray@dot.ga.gov. GDOT's normal business hours are 8 a.m. to 5 p.m. (eastern time) Monday through Friday.

SUPPLEMENTARY INFORMATION: Notice is hereby given that FHWA has taken a final agency action on GDOT Project PI 0018361 by issuing a FONSI for the following new interchange project in the State of Georgia: The I-20 at Old Mill Road Interchange Construction Project located in Morgan and Walton Counties, Georgia. The Selected Alternative will construct a new interchange along I-20 at Old Mill Road. Old Mill Road in the vicinity of the new interchange will be widened from a two-lane section to a four-lane section with a 20-foot grassed median with bike lanes (north of I-20) and sidewalks and realigned to the west of its current location. The project will begin approximately 0.38 mile south of I-20 on Old Mill Road, construct a new bridge over I-20 to the west of the existing bridge, and terminate approximately 0.27 mile north of I-20 at a signalized intersection with a newly constructed frontage road. The length of the proposed construction is approximately 0.73 mile. The purpose of the project is listed below:

• Provide new, direct vehicular access to I-20, which will serve current and projected future vehicular and truck traffic;

• Provide congestion relief for the existing I-20/US 278 interchange to the west, which is not anticipated to have sufficient capacity to accommodate projected traffic volumes by 2045;

• Accelerate project delivery.

The FHWA's action, related actions by other Federal Agencies, and the laws under which such actions were taken are described in the Environmental Assessment (EA) for the project, approved on March 8, 2023, the FONSI issued on October 3, 2023, and other documents in the project file. The EA, FONSI and other project records are available by contacting FHWA or GDOT at the addresses listed in the FOR FURTHER INFORMATION CONTACT section of this notice. The EA and FONSI can also be reviewed and downloaded from the project website at https://us278andoldmillroad-gdot.hub.arcgis.com/.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Noise: Noise Control Act of 1972 [42 U.S.C. 4901-4918]; 23 CFR part 772.

4. Land: Section 4(f) of the Department of Transportation Act of 1966 [49 U.S.C. 303].

5. Wildlife: Endangered Species Act (ESA) [16 U.S.C. 1531-1544 and Section 1536]; Fish and Wildlife Coordination Act [16 U.S.C. 661-667d]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Coastal Zone Management Act [16 U.S.C. 1451-1465]; Land and Water Conservation Fund (LWCF) [16 U.S.C. 4601-4604]; Safe Drinking Water Act (SDWA) [42 U.S.C. 300(f)-300(j)(6)]; Wild and Scenic Rivers Act [16 U.S.C. 1271-1287]; Flood Disaster Protection Act [42 U.S.C. 4001-4128].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 14096 Revitalizing Our Nation's Commitment to Environmental Justice for All; E.O. E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13045 Protection of Children From Environmental Health Risks and Safety Risks; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: October 3, 2023.
Sabrina S. David,
Division Administrator, Atlanta, Georgia.

[FR Doc. 2023-22354 Filed 10-6-23; 8:45 am]

BILLING CODE 4910-22-P